DEPARTMENT OF HEALTH AND HUMAN SERVICES

Agency for Toxic Substances and Disease Registry

Statement of Organization, Functions and Delegations of Authority

Part J (Agency for Toxic Substances and Disease Registry) of the Statement of Organization, Functions, and Delegations of Authority of the Department of Health and Human Services (50 FR 25129-25130, dated June 17, 1985, as amended most recently at 71 FR 58396-5 8397, dated October 3, 2006) is amended to reflect the reorganization of the Office of the Director, Agency for Toxic Substances and Disease Registry.

Section J-B, Organization and Functions, is hereby amended as follows:

After item (9) of the functional statement for the Office of the Director (JAA), Agency for Toxic Substances and Disease Registry (J), add the following: (10) serves as primary liaison between ATSDR and the National Center for Health Marketing on communications and marketing science, and its associated research and practice.

Delete in their entirety the title and functional statement for the Office of Communications (JAA4).

Dated: April 2, 2008.
Joseph Henderson,
Acting Chief Operating Officer, Centers for Disease Control and Prevention (CDC).

[FR Doc. E8-7855 Filed 4-14-08; 8:45 am]

BILLING CODE 4160-70-M